INTERNATIONAL TRADE COMMISSION

[Investigation No. 332-541]

Trade Barriers That U.S. Small and Medium-Sized Enterprises Perceive as Affecting Exports to the European Union; Rescheduling of Washington, DC Public Hearing and Change in Dates for Filing Requests To Appear, Pre- and Post-Hearing Briefs, All Other Written Submissions, and for Transmittal of Final Report

AGENCY: United States International Trade Commission.

ACTION: Rescheduling of Washington public hearing and change in dates for filing requests to appear, pre- and post-hearing briefs, all other written submissions, and transmittal of the final report.

SUMMARY: Due to the lapse in appropriations and resulting furlough, the Commission has rescheduled the Washington, DC, public hearing in this investigation to 9:30 a.m. on November 20, 2013. The Commission has also changed the dates for filing requests to appear, pre-hearing briefs and post-hearing briefs relating to the Washington hearing; for filing all other written submissions, and for transmitting the final report to USTR. The Washington, DC, hearing was previously scheduled for October 8, 2013, with post-hearing briefs and all written submission due by October 15, 2013, and a transmittal date of January 31, 2014.

Revised Dates:

November 12, 2013: Deadline for filing requests to appear at Washington hearing.

November 13, 2013: Deadline for filing pre-hearing briefs and statements.

November 20, 2013: Public hearing.

December 2, 2013: Deadline for filing post-hearing briefs.

December 2, 2013: Deadline for filing all other written submissions.

February 28, 2014: Transmittal of Commission report to the USTR.

ADDRESSES: All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader William Deese (202-205-2626 or william.deese@usitc.gov) or Deputy Project Leader Tamar Khachaturian (202-205-3299 or tamar.khachaturian@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: The hearing relates to a report that the Commission is preparing at the request of the United States Trade Representative (USTR) under section 332(g) of the Tariff Act of 1930 (19 U.S.C. 1332(g)). The USTR requested that the Commission prepare a report that catalogs trade barriers that U.S. small and medium-sized enterprises (SMEs) perceive as disproportionately affecting their exports to the EU, compared to those of larger U.S. exporters to the EU. In the request letter, the USTR stated that the United States, in the Transatlantic Trade and Investment Partnership (TTIP) negotiations with the European Union (EU), is seeking to strengthen the participation of SMEs in transatlantic trade and to address trade barriers that may disproportionately impact small businesses. The notice announcing the institution of this investigation and a hearing on October 8, 2013 was published in the Federal Register of July 30, 2013 (78 FR 45969); the notice is also posted on the Commission's Web site at www.usitc.gov. Due to the lapse in appropriations and resulting furlough, the hearing scheduled for October 8, 2013, did not take place.

Public Hearing: The rescheduled hearing will be held at the U.S. International Trade Commission Building, 500 E Street SW., Washington, DC, beginning at 9:30 a.m. on November 20, 2013. Requests to appear at the public hearing should be filed with the Secretary, no later than 5:15 p.m., November 12, 2013, in accordance with the requirements in the “Request to Appear” section below. All pre-hearing briefs and statements should be filed no later than 5:15 p.m., November 13, 2013; and all post-hearing briefs and statements should be filed not later than 5:15 p.m., December 2, 2013. In the event that, as of the close of business on November 12, 2013, no witnesses are scheduled to appear at the hearing, the hearing will be canceled. Any person interested in attending the hearing as an observer or nonparticipant should contact the Office of the Secretary at 202-205-2000 after November 12, 2013, for information concerning whether the hearing will be held. All hourly times in this notice are eastern time.

Requests to Appear: Requests to appear at the hearing may be in the form of a letter, which should be on company or other appropriate stationery. Requests should identify the name, title, and company or other organizational affiliation (if any), address, telephone number, email address, and industry or main line of business of the company, if any, of the person signing the request letter and of the persons who plan to appear at the hearing. Requests to appear must be made by mail or delivered in person to the Commission's Office of the Secretary (see ADDRESSES), or in the alternative may be filed by email sent to SMEHearing@usitc.gov. The Commission does not accept requests filed by fax.

Written Submissions: In lieu of or in addition to participating in the hearing, interested parties are invited to file written submissions concerning this investigation. Such submissions should be received no later than 5:15 p.m., December 2, 2013. All written submissions must conform to the provisions of section 201.8 of the Commission's Rules of Practice and Procedure (19 CFR 201.8). Section 201.8 and the Commission's Handbook on Filing Procedures require that interested parties file documents electronically on or before the filing deadline and submit eight (8) true paper copies by 12:00 p.m. on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

In the request letter, the USTR stated that the Office of the USTR intends to make the Commission's report available to the public in its entirety, and asked that the Commission not include any confidential business information or national security classified information in the report that the Commission sends to the USTR. Any confidential business information received by the Commission in this investigation and used in preparing this report will not be published in a manner that would reveal the operations of the firm supplying the information.

Issued: November 1, 2013.
By order of the Commission.
Lisa R. Barton,
Acting Secretary to the Commission.

[FR Doc. 2013-26619 Filed 11-6-13; 8:45 am]

BILLING CODE 7020-02-P